SMALL BUSINESS ADMINISTRATION

[Disaster Declaration #10222 and #10223]

Florida Disaster Number FL-00011

AGENCY: U.S. Small Business Administration.

ACTION: Amendment 4.

SUMMARY: This is an amendment of the Presidential declaration of a major disaster for the State of Florida (FEMA—1609—DR), dated 10/24/2005.

Incident: Hurricane Wilma.

Incident Period: 10/23/2005 through 11/18/2005.

Effective Date: 12/08/2005.

Physical Loan Application Deadline Date: 01/05/2006.

EIDL Loan Application Deadline Date: 07/24/2006.

ADDRESSES: Submit completed loan applications to:

U.S. Small Business Administration,

National Processing and Disbursement Center,

14925 Kingsport Road,

Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for the State of Florida, dated 10/24/2005, is hereby amended to extend the deadline for filing applications for physical damages as a result of this disaster to 01/05/2006.

All other information in the original declaration remains unchanged.

(Catalog of Federal Domestic Assistance Numbers 59002 and 59008)

Herbert L. Mitchell,
Associate Administrator for Disaster Assistance.

[FR Doc. E5-7798 Filed 12-23-05; 8:45 am]

BILLING CODE 8025-01-P